DEPARTMENT OF ENERGY

Federal Energy Regulatory Commission

[Project No. 13760-000]

Music Mountain Hydro, LLC; Notice of Preliminary Permit Application Accepted for Filing and Soliciting Comments, Motions To Intervene, and Competing Applications

August 9, 2010.

On May 18, 2010, Music Mountain Hydro, LLC filed an application for a preliminary permit, pursuant to section 4(f) of the Federal Power Act, proposing to study the feasibility of the Music Mountain Pumped Storage Hydroelectric Project, located in Mohave County, in the state of Arizona. The sole purpose of a preliminary permit, if issued, is to grant the permit holder priority to file a license application during the permit term. A preliminary permit does not authorize the permit holder to perform any land disturbing activities or otherwise enter upon lands or waters owned by others without the owners' express permission.

The proposed project would consist of the following developments:

(1) Two artificial, lined reservoirs joined by approximately 10,430 feed of conduit; (2) an upper dam with a height of 160 ft and 1,848 ft length at crest; (3) a lower embankment with a height of 50 ft and 6,336 ft at length of crest; (4) an upper reservoir having a surface area of 112 acres and a storage capacity of 6,885 acre-feet and maximum water surface elevation of 5,715 feet mean sea level; (5) a lower reservoir having a surface area of 69 acres and a storage capacity of 6,885 acre-feet and maximum water surface elevation of 4,940 feet mean sea level; (6) a proposed powerhouse containing three new pump/turbine generating units having an installed capacity of 350-megawatts; (7) dependent on the interconnection; a proposed 1-mile, single-circuit 500 kilovolt transmission line, an 8.5 mile, single-circuit 500 kilovolt transmission line, or an 8.5 mile, single-circuit 345 kilovolt transmission line. The proposed development would have an average annual generation of 1,073,100 megawatt-hours.

Applicant Contact: Matthew Shapiro, CEO, Music Mountain Hydro LLC, 1210 W. Franklin St., Ste. 2, Boise, ID 83702; phone: (208) 246-9925.

FERC Contact: Mary Greene, 202-502-8865.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13760) in the docket number field to access the document. For assistance, contact FERC Online Support.

Nathaniel J. Davis, Sr.,
Deputy Secretary.

[FR Doc. 2010-20142 Filed 8-13-10; 8:45 am]

BILLING CODE 6717-01-P